DEPARTMENT OF TRANSPORTATION

Federal Aviation Administration

14 CFR Parts 401, 404, 415, 417, 431, 435, 437, 450, and 453

[Docket No.: FAA-2023-1858; Notice No. 23-13]

RIN 2120-AK81

Mitigation Methods for Launch Vehicle Upper Stages on the Creation of Orbital Debris; Withdrawal

AGENCY: Federal Aviation Administration (FAA), Department of Transportation (DOT).

ACTION: Notice of Proposed Rulemaking (NPRM); withdrawal.

SUMMARY: This document informs the public that FAA has determined not to pursue the previously published NPRM, which proposed to require that upper stages of commercial launch vehicles and other components resulting from launch or reentry be removed from orbit within 25 years after launch, either through atmospheric disposal or maneuver to an acceptable disposal orbit. FAA is withdrawing this action to further consider comments received.

DATES: The NPRM published on September 26, 2023, at 88 FR 65835 is withdrawn, effective January 15, 2026.

FOR FURTHER INFORMATION CONTACT: Stephen Earle, Space Policy and Outreach Branch Manager, Office of Commercial Space Transportation (ASZ-220), Federal Aviation Administration, 800 Independence Ave. SW, Washington, DC 20591; telephone (202) 267-8376; email stephen.earle@faa.gov.

SUPPLEMENTARY INFORMATION:

Background

On September 26, 2023, FAA published a Notice of Proposed Rulemaking (NPRM) titled “Mitigation Methods for Launch Vehicle Upper Stages on the Creation of Orbital Debris.” ¹ The proposed rule would require upper stages of commercial launch vehicles and other components resulting from launch or reentry be removed from orbit within 25 years after launch, either through atmospheric disposal or maneuver to an acceptable disposal orbit. The proposed rule would reduce the amount of additional debris created, as well as limit potential collisions with functional spacecraft and other debris already on-orbit.

¹ 88 FR 65835.

Reason for Withdrawal

FAA has determined that this regulatory course of action requires further study. Therefore, FAA is withdrawing the NPRM to further consider the 40 comments received during the NPRM comment period. Of the 40 comments received, 6 comments related to the costs of remediating orbital debris, and 7 comments expressed concern with respect to FAA's explicit authority to take some of the action proposed. The agency intents to review FAA's authority as it relates to further regulating orbital debris mitigation. Additionally, FAA intends to review the space launch industry cost inputs and expectations with respect to debris mitigation activities.

Conclusion

Withdrawal of the NPRM does not preclude FAA from issuing a rulemaking action regarding orbital debris in the future nor does it commit the agency to any future course of action. The agency will propose any future changes to the Code of Federal Regulations through the appropriate rulemaking processes.

Therefore, FAA withdraws Notice No. 23-13, published at 88 FR 65835 on September 26, 2023.

Issued under authority provided by 49 U.S.C. 106(f), 44701(a), and 44703 in Washington, DC.
Bryan K. Bedford,
Administrator.

[FR Doc. 2026-00680 Filed 1-14-26; 8:45 am]

BILLING CODE 4910-13-P